DEPARTMENT OF COMMERCE

National Oceanic and Atmospheric Administration

[I.D. 032703D]

Endangered and Threatened Species; Take of Anadromous Fish

AGENCY: National Marine Fisheries Service (NMFS), National Oceanic and Atmospheric Administration (NOAA), Commerce.

ACTION: Applications for four scientific research permits (1114, 1124, 1134, 1152) and four permit modifications (1290, 1291, 1322, 1376).

SUMMARY: Notice is hereby given that NMFS has received four permit applications and four applications to modify existing scientific research permits relating to Pacific salmon and steelhead. All of the proposed research is intended to increase knowledge of species listed under the Endangered Species Act (ESA) and to help guide resource management and conservation efforts.

DATES: Comments or requests for a public hearing on the applications or modification requests must be received no later than 5 p.m. Pacific daylight savings time on May 2, 2003.

ADDRESSES: Written comments on the applications or modification requests should be sent to Protected Resources Division, NMFS, F/NWO3, 525 NE Oregon Street, Suite 500, Portland, OR 97232-2737. Comments may also be sent via fax to 503-230-5435. Comments will not be accepted if submitted via e-mail or the internet.

FOR FURTHER INFORMATION CONTACT: Chris Bill, Portland, OR (ph: 503-230-5403, Fax: 503-230-5435, e-mail christopher.bill@noaa.gov). Permit/modification applications, including amount of take requested are available at http://www.nwr.noaa.gov.

SUPPLEMENTARY INFORMATION:

Species Covered in This Notice

The following listed species and evolutionarily significant units (ESUs) are covered in this notice:

Sockeye salmon (Oncorhynchus nerka): endangered Snake River (SR).

Chinook salmon (O. tshawytscha): endangered natural and artificially propagated upper Columbia River (UCR); threatened natural and artificially propagated SR spring/summer (S/S); threatened SR fall; threatened lower Columbia River (LCR); threatened upper Willamette River (UWR); threatened natural and artificially propagated Puget Sound (PS).

Chum salmon (O. keta): threatened Columbia River (CR).

Steelhead (O. mykiss): endangered natural and artificially propagated UCR; threatened SR; threatened middle Columbia River (MCR); threatened LCR.

Authority

Scientific research permits are issued in accordance with Section 10(a)(1)(A) of the ESA (16 U.S.C. 1531 et seq.) and regulations governing listed fish and wildlife permits (50 CFR parts 222-226). NMFS issues permits and modifications based on findings that such permits and modifications: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). The holding of such hearing is at the discretion of the Assistant Administrator for Fisheries, NOAA.

Permit/Modifcation Applications

Permit 1114

The Washington Department of Fish and Wildlife (WDFW) is requesting a 5-year permit for a study that would annually take juvenile and adult, natural and artificially-propagated, endangered UCR spring chinook salmon; and juvenile and adult, natural and artificially propagated, endangered UCR steelhead. Under this permit, the WDFW would capture juvenile, artificially propagated and natural UCR spring chinook salmon and steelhead as part of a long-term, ongoing smolt monitoring program at Rock Island Dam on the Columbia River in Washington State. The original permit was in place for 5 years (63 FR 20169) with three modifications (63 FR 43381, 65 FR 15314, 66 FR 38641); it expired on December 31, 2002. Under the new permit (as with the old) the captured smolts would be held for as long as 24 hours and all would be anesthetized, sampled for data relating to their species, size, origin (hatchery or natural), and examined for the presence of a coded wire tag (CWT) or passive integrated transponder (PIT) tag. Some of the captured fish would be examined for evidence of gas bubble trauma (GBT) and others would be implanted with a PIT tag. All captured fish would be allowed to recover before being released in the dam's tailrace. The WDFW also expects to capture a few downstream-migrating steelhead kelts during the course of the trapping operation. These fish would be anesthetized and immediately moved to the lower sections of the adult fishway where they could recover on their own and continue their migration. The WDFW does not intend to kill any of the fish being captured, but a small percentage may die as a result of the research activities.

The purpose of the research is to provide important information regarding what effects the annual mid- and upper (Columbia) river water allocation budget has on listed salmonids. The data being collected would be used to assess the effects of the water allocation plan, thereby improving smolt migration conditions (e.g., through releasing adequate amounts of upstream water during the migration period) and increasing listed spring chinook and steelhead survival rates. Another objective is to help resource managers develop the basin-wide database for PIT-tagged salmonids and thus increase what is known about smolt migration timing and behavior in the Columbia River system.

Permit 1124

The Idaho Department of Fish and Game (IDFG) is requesting a 5-year permit for seven study tasks that, among them, would annually take adult and juvenile threatened SR fall chinook salmon; adult and juvenile threatened spring/summer SR chinook salmon (natural and artificially propagated); and adult and juvenile endangered SR sockeye salmon in the Salmon and Clearwater Rivers in Idaho. The original Permit 1124 was in place for 5 years (63 FR 30199) with one amendment (67 FR 34909); it expired on December 31, 2002. It contained the same seven research tasks being requested under this permit application: Task 1 - General fish population inventory; Task 2 - Spring/summer chinook salmon natural production monitoring and evaluation; Task 3 - Spring/summer chinook salmon supplementation research; Task 4 - Redfish Lake, Pettit Lake, Alturas Lake kokanee/sockeye research; Task 5 - Salmon and steelhead fish health monitoring; Task 6 - Steelhead natural production monitoring and evaluation; and Task 7 - Steelhead supplementation research. Under these tasks, listed adult and juvenile salmon would be (a) observed/harassed during fish population and production monitoring surveys; (b) captured (using seines, trawls, traps, hook-and-line angling equipment, and electrofishing equipment) and anesthetized; (c) sampled for biological information and tissue samples, (d) PIT-tagged or tagged with radio transmitters or other identifiers, (e) and released. Some fish would die as a result of the research activities though the permit would include salvage and rescue operations as part of the allotted take (i.e., during some of the activities, listed fish would be collected and transported downriver to improve their survival). In addition, the IDFG is asking to lethally take a small number of juvenile SR sockeye and spring/summer chinook salmon during some of the research.

The research has many purposes and would benefit listed SR salmon in different ways. In general, the purpose of the research is to determine the distribution, abundance, and productivity of anadromous and resident fish stocks; measure the efficacy of harvest management strategies and the impact of proposed or existing habitat alteration projects; and monitor natural production levels, salmonid health, and the effectiveness of supplementation efforts. The research would benefit listed salmon by helping resource managers tailor land-altering activities (e.g., timber harvest, road building) to the needs of the fish; set harvest regimes so that they have minimal impacts on listed populations; prioritize projects in a way that gives maximum benefit to listed species; and design strategies and activities to help recover them.

Permit 1134

The Columbia River Inter Tribal Fish Commission (CRITFC) is requesting a 5-year permit covering five study projects that, among them, would annually take adult and juvenile threatened SR fall chinook salmon; adult and juvenile threatened SR spring/summer chinook salmon (natural and artificially propagated); and adult and juvenile threatened SR steelhead in the Snake River basin. The original permit was in place for 5 years (63 FR 30199) with one amendment (67 FR 43909); it expired on December 31, 2002. Over the years, there have been some changes in the research and they are reflected in this application (e.g., the aforementioned amendment and some reallocation of research activities and their associated take to other permits), nonetheless, the projects proposed are largely continuations of ongoing research. They are: Project 1 Adult Spring/summer and Fall Chinook Salmon and Summer Steelhead Ground and Aerial Spawning Ground Surveys; Project 2 Cryopreservation of Spring/summer Chinook Salmon and Summer Steelhead Gametes; Project 3 Adult Chinook Salmon Abundance Monitoring Using Video Weirs, Acoustic Imaging, and PIT tag Detectors in the South Fork Salmon River; Project 4 Snorkel, Seine, Minnow Traps, and Electrofishing Surveys and Collection of Juvenile Chinook Salmon and Steelhead; and Project 5 Juvenile Anadromous Salmonid Emigration Studies Using Rotary Screw Traps. Under these projects, listed adult and juvenile salmon would be variously (a) observed/harassed during fish population and production monitoring surveys; (b) captured (using seines, trawls, traps, hook-and-line angling equipment, and electrofishing equipment) and anesthetized; (c) sampled for biological information and tissue samples, (d) PIT-tagged or tagged with other identifiers, (e) and released. The CRITFC does not intend to kill any of the fish being captured, but a small percentage may die as a result of the research activities.

The research has many purposes and would benefit listed salmon and steelhead in different ways. In general, the studies are part of ongoing efforts to monitor the status of listed species in the Snake River basin and to use that data to inform decisions about land- and fisheries management actions and to help prioritize and plan recovery measures for the listed species. The studies would continue to benefit listed species by generating population abundance estimates, allowing comparisons to be made between naturally reproducing populations and those being supplemented with hatchery fish, and helping preserve listed salmon and steelhead genetic diversity.

Permit 1152

The Oregon Department of Fish and Wildlife (ODFW) is requesting a 5-year permit covering six projects that, among them, would annually take juvenile and adult threatened SR spring/summer chinook salmon (natural and artificially propagated) and adult and juvenile threatened SR steelhead in Northeast Oregon. The original permit was in place for 5 years (63 FR 49336) with one modification (67 FR 34909); it expired on December 31, 2002. Over the years, there have been some changes in the research (e.g., the aforementioned modification) and they are reflected in this application, nonetheless, the projects proposed are largely continuations of ongoing research. They are: Project 1 Northeast Oregon Spring Chinook Salmon Spawning Ground Surveys; Project 2 Spring Chinook Salmon and Steelhead Life History in the Grande Ronde River Basin; Project 3 Residual hatchery Steelhead Monitoring in Northeast Oregon; Project 4 Passage and Irrigation Screening; Project 5 Bull Trout Migratory patterns, Population Structure, and Abundance in the Blue Mountains Province (does not target listed species but would indirectly take them); and Project 6 Fish Distribution and Abundance Monitoring in Northeast Oregon. Under these tasks, listed adult and juvenile salmon would be variously (a) observed/harassed during fish population and production monitoring surveys; (b) captured (using seines, trawls, traps, hook-and-line angling equipment, and electrofishing equipment) and anesthetized; (c) sampled for biological information and tissue samples, (d) PIT-tagged or tagged with radio transmitters or other identifiers, (e) and released. The ODFW does not intend to kill any of the fish being captured, but a small percentage may die as a result of the research activities.

The research has many purposes and would benefit listed salmon and steelhead in different ways. In general, the purpose of the proposed research is to gather information on the natural production, distribution, survival, resource and habitat use, and genetic and life history characteristics of listed chinook salmon and steelhead in Northeast Oregon. The research activities would provide ongoing benefits to listed salmon and steelhead by helping resource managers (a) guide recovery actions, (b) prioritize habitat protection and restoration projects, (c) monitor ongoing management activities, (d) evaluate supplementation efforts, and (d) provide effective screening on water diversions that might otherwise entrain, strand, and kill listed fish.

Permit 1290-Modification 1

The Northwest Fisheries Science Center (NWFSC), NMFS in Seattle, WA is requesting a modification to permit 1290 that would allow it to increase the number of fish taken in its research. Under the modification, the NWFSC would increase its annual take of juvenile threatened SR spring/summer chinook salmon (natural and artificially propagated); threatened SR fall chinook salmon; endangered UCR chinook salmon (natural and artificially propagated); threatened LCR chinook salmon; endangered UCR steelhead (natural and artificially propagated); and threatened MCR steelhead during the course of research being conducted in the Columbia River estuary. The NWFSC proposes to capture, handle, and release listed salmonids, and while most of the fish would be unharmed, some would die during the course of the research and a small number of them would be intentionally killed. Purse seines or beach seines would be the primary capture method. Captured fish would be anesthetized, identified, and measured.

The purpose of the research is to evaluate the importance of the Columbia River estuary to baitfish populations and salmonid marine survival, and the role of disease as a factor affecting survival of juvenile salmonids in the estuarine and marine environment. The research would benefit listed salmonids by contributing information on the extent to which baitfish populations and diseases affect the growth and survival of juvenile salmonids in the estuarine and early ocean environments.

Permit 1291 Modification 1

The United States Geological Survey (USGS) is requesting a modification to Permit 1291 that would allow it to use McNary Dam on the Columbia River as an alternate collection point for some of the fish used in their research. Under the modification, the USGS would annually take juvenile threatened SR spring/summer chinook salmon (natural and artificially propagated); threatened SR fall chinook salmon, endangered UCR chinook salmon (natural and artificially propagated); threatened LCR chinook salmon; threatened UWR chinook salmon; threatened LCR steelhead; threatened MCR steelhead; endangered UCR steelhead (natural and artificially propagated); threatened SR steelhead; and endangered SR sockeye salmon at up to three dam sites on the Columbia River. Under the modification, the listed juvenile fish would be either (1) captured by Smolt Monitoring Program (SMP) personnel at John Day Dam (and, if necessary at Bonneville and McNary Dams) handled, and released or (2) captured by SMP personnel and given to USGS personnel and implanted with radio transmitters, transported, held for as long as 24 hours, released, and tracked electronically. The USGS requests that SMP personnel be allowed to act as agents of the USGS under the proposed permit. The USGS does not intend to kill any of the fish being captured, but a small percentage may die as a result of the research activities.

The purpose of the research is to monitor (using radio telemetry) juvenile fish movement, distribution, behavior, and survival in the Columbia River. The research would benefit listed salmonids by providing information on spill effectiveness, forebay residence times, and guidance efficiency under various flow regimes that would allow Federal resource managers to adjust bypass/collection structures and thereby optimize downriver migrant survival at the hydropower projects.

Permit 1322 Modification 2

The NWFSC is requesting that NMFS modify Permit 1322 to increase the annual number of listed fish taken in its research. Under the modification, the NWFSC would increase its annual take of juvenile threatened SR spring/summer chinook salmon (natural and artificially propagated); threatened SR fall chinook salmon; endangered UCR chinook salmon (natural and artificially propagated); threatened LCR chinook salmon, threatened UWR chinook salmon, and threatened CR chum salmon while conducting research in the Columbia River estuary. The NWFSC proposes to capture, handle, and release listed salmonids, and while most of the fish would be unharmed, some would die during the course of the research and a small number of them would be intentionally killed. Purse seines, trap nets, and beach seines would be used to capture the fish. Captured fish would be anesthetized, identified, sampled for tissues, and measured. Some fish would be sacrificed to confirm species identification, catch composition, food habits, and timing of estuarine entry. The NWFSC is also requesting an increase in the number of fish that may unintentionally be killed during the research.

The purposes of the research are to (1) determine the presence and abundance of fall and spring chinook salmon, coho salmon, and chum salmon in the estuary and Lower Columbia River; (2) determine the relationship between juvenile salmon and Lower Columbia River estuarine habitat; and (3) obtain information about flow change, sediment input, and habitat availability for the development of a numerical model. The research would benefit listed fish by serving as a basis for estuarine restoration and preservation plans. The NWFSC requests authorization to transfer fish tissue samples to the University of Washington, College of Ocean and Fisheries, School of Fisheries and Aquatic Sciences; Oregon State University, Hatfield Marine Science Center; and Washington Department of Fish and Wildlife.

Permit 1376 Modification 1

The University of Washington (UW) is requesting that NMFS modify Permit 1376 to increase the number of threatened, juvenile and adult natural PS chinook salmon they can take annually during research conducted in Lakes Sammamish and Washington in Washington State. Permit 1376 was originally issued on July 31, 2002 (67 FR 17970). It authorized the UW to take threatened, juvenile natural PS chinook salmon in a study designed to illuminate food web interactions, identify sources of mortality, and determine the energetic requirements to sustain fish and zooplankton communities in each lake. The UW proposes to capture (using gillnets, trawls, hook-and-line, trot lines, minnow traps, beach seines, and backpack electrofishing equipment), anesthetize, handle, measure, weigh, examine the stomach contents using non-lethal evacuation, and release juvenile PS chinook salmon. The UW does not intend to kill any of the fish being captured, but a small number would die as a result of the research activities.

The study would help researchers identify and quantify factors limiting juvenile salmon (and other species') survival and growth. The increased take levels would help the UW gain more information on the prevalence and role of chinook salmon residualizing in this unique, lake-dominated watershed.

This notice is provided pursuant to section 10(c) of the ESA. NMFS will evaluate the applications, associated documents, and comments submitted to determine whether the applications meet the requirements of section 10(a) of the ESA and Federal regulations. The final permit decision will not be made until after the end of the 30 day comment period. NMFS will publish notice of its final actions in the Federal Register.

Dated: March 28, 2003.
Phil Williams,
Chief, Endangered Species Division, Office of Protected Resources, National Marine Fisheries Service.

[FR Doc. 03-7967 Filed 4-1-03; 8:45 am]

BILLING CODE 3510-22-S